DEPARTMENT OF ENERGY

Federal Energy Regulatory Commission

[Project No. 13015-001]

Town of Edgartown; Notice of Public/Technical Meeting To Discuss Information and Monitoring Needs for a License Application for a Pilot Project

a. Type of Application: Draft Pilot License Application.

b. Project No.: 13015-001.

c. Applicant: Town of Edgartown (Edgartown).

d. Name of Project: Muskeget Channel Tidal Energy Project.

e. Location: In Muskeget Channel, between the islands of Martha's Vineyard and Nantucket, Dukes County, Massachusetts.

f. Filed Pursuant to: 18 CFR 5.3 of the Commission's regulations.

g. Applicant Contact: Ms. Pamela Dolby, Town Administrator, Town of Edgartown, 70 Main Street, Edgartown, MA 02539; (508) 627-6180.

h. FERC Contact: Michael Watts, phone: (202) 502-6123, e-mail: Michael.watts@ferc.gov.

i. Project Description: The proposed Muskeget Channel Tidal Energy Project would consist of: (1) 13 commercially operated OCGen™ horizontal hydrokinetic cross-flow turbine generation units with a total installed capacity of 5 megawatts, and one experimental turbine unit that would be used to test various tidal energy technologies; (2) a mooring and anchoring system attached to each unit consisting of four mooring lines, an anchor, and a clump weight; (3) two alternative submarine cable routes consisting of a either a 3.5-mile-long, or a 5-mile-long submarine cable with two 13.8-kilovolt (kv) transmission lines and a 4.0-kv transmission line connecting the turbine generation units to an onshore substation located either in the Chappaquiddick or Katama sections of Edgartown; (4) two alternative onshore transmission line routes consisting of a 34.5 kv transmission line connecting either the Chappaquiddick or Katama onshore substation to an existing distribution line in Edgartown; and (5) appurtenant facilities. The project would have an average annual generation of 10.95 gigawatt-hours.

j. Licensing Process: On February 1, 2011, Edgartown filed a Notice of Intent and request for waivers of certain regulations of the Federal Energy Regulatory Commission's (Commission) Integrated Licensing Process to expedite processing of a license application for the Muskeget Channel Tidal Energy Pilot Project. Edgartown expects to file a final license application for a pilot project with the Commission by February 15, 2012.

k. Notice Purpose: The purpose of this notice is to inform you of the opportunity to participate in the upcoming joint public/technical meeting with Massachusetts Environmental Policy Act (MEPA) Office, Commission staff, and Edgartown.¹ The purpose of the meeting is to discuss information and monitoring needs for the final license application and to provide a public consultation session for the purposes of MEPA review and scoping of the Environmental Impact Report (EIR). All interested individuals, organizations, and agencies are invited to attend the meeting. The time and location of the meeting is as follows:

¹ In order to coordinate the State and Federal reviews of the project, this meeting is being held in lieu of the May 1, 2011, technical meeting listed in the Commission's notice issued on February 8, 2011.

Meeting Schedule and Location

Meeting

Monday, March 7, 2011, 11 a.m. (local time). Edgartown Town Hall, 70 Main Street, Edgartown, MA 02539.

A land-based site visit to the proposed cable landfall location(s) will take place after the meeting.

Anyone in need of directions may contact Mr. Stephen Barrett at: (781) 852 3125, or via e-mail at: sbarrett@hmmh.com.

To help focus discussions, Commission staff encourages participants to review Edgartown's draft pilot license application and monitoring plans filed with the Commission on February 1, 2011. These materials are available for review at the Commission in the Public Reference Room or may be viewed on the Commission's Web site at http://www.ferc.gov using the “eLibrary” link. Enter the docket number P-13015-001 to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, please contact FERC Online Support.

l. Meeting Objectives: At the technical meeting, Commission staff will focus the discussion on the information gaps that need to be addressed to ensure that sufficient information exists for the Commission to make a determination on whether the proposed project meets the criteria for a pilot project and for processing a license application for a pilot project upon its filing with the Commission.

m. MEPA Review: Edgartown filed an expanded Environmental Notification Form (ENF) for the Muskeget Channel Tidal Energy Project with the MEPA Office. Edgartown is requesting a single Environmental Impact Report (EIR) rather than the typical two-stage draft and final EIR. The expanded ENF was noticed in the February 9, 2011, issue of the Environmental Monitor. http://www.env.state.ma.us/mepa/emonitor.aspx.

Any agency or person may comment on the expanded ENF and the proposed project, including: feasible alternatives, potential environmental impacts, potential mitigation measures, and what additional information and analysis to require in the scope for the EIR. A MEPA public consultation session will be held on March 7, 2011, in conjunction with the Commission's technical meeting. Written comments on the ENF must be sent to the MEPA office by March 17, 2011. Please mail your comments to:

Secretary Richard K. Sullivan, Executive Office of Energy and Environmental Affairs, Attn: MEPA Office [Aisling O' Shea], EEA No. 14696, 100 Cambridge Street, Suite 900, Boston, MA 02114.

To send comments by e-mail or fax, or for questions regarding the MEPA process, contact Aisling O'Shea, MEPA Analyst at: e-mail: aisling.o'shea@state.ma.us; Fax: (617) 626-1181 or Phone: (617) 626-1024.

In addition, please file a copy of your comments with the Federal Energy Regulatory Commission. Your comments may be filed electronically via the Internet (instructions are on the Commission's Web site at: http://www.ferc.gov/docs-filing/efiling.asp). For assistance, please contact FERC Online Support at FERCOnlinesupport@ferc.gov; call toll-free at (866) 208-3676; or, for TTY, contact (202) 502-8659. Although FERC strongly encourages electronic filing, your comments may also be paper-filed. To paper-file, mail an original and eight copies to: Kimberly Bose, Secretary, Federal Energy Regulatory Commission, 888 First Street, NE., Washington, DC 20426. Please put the docket number, P-13015-001 on the first page of your response.

n. Procedures: The meetings will be recorded by a stenographer and will become part of the formal record of the Commission proceeding on the project.

Dated: February 18, 2011.
Kimberly D. Bose,
Secretary.

[FR Doc. 2011-4263 Filed 2-24-11; 8:45 am]

BILLING CODE 6717-01-P